DEPARTMENT OF LABOR

Occupational Safety and Health Administration

29 CFR Part 1910

[Docket No. OSHA-2007-0040]

RIN 1218-AC08

Updating OSHA Standards Based on National Consensus Standards

AGENCY: Occupational Safety and Health Administration (OSHA), Department of Labor.

ACTION: Final rule; confirmation of effective date.

SUMMARY: OSHA is confirming the effective date of its direct final rule that revises a number of standards for general industry that refer to national consensus standards. The direct final rule states that it would become effective on March 13, 2008 unless OSHA receives significant adverse comment on these revisions by January 14, 2008. OSHA received no adverse comments by that date and, therefore, is confirming that the rule will become effective on March 13, 2008.

DATES: The direct final rule published on December 14, 2007 (72 FR 71061) is effective March 13, 2008.

FOR FURTHER INFORMATION CONTACT: Press Inquiries: Kevin Ropp, OSHA Office of Communications, Room N-3647, U.S. Department of Labor, 200 Constitution Avenue, NW., Washington, DC 20210; telephone: (202) 693-1999. General and technical information: Don Pittenger, Director, Office of Safety Systems, Directorate of Standards and Guidance, Occupational Safety and Health Administration, U.S. Department of Labor, Room N-3609, 200 Constitution Avenue, NW., Washington, DC 20210; telephone (202) 693-2508.

ADDRESSES: In compliance with 28 U.S.C. 2112(a), OSHA designates the Associate Solicitor for Occupational Safety and Health as the recipient of petitions for review of the final standard. Contact the Associate Solicitor at the Office of the Solicitor, Room S-4004, U.S. Department of Labor, 200 Constitution Avenue, NW., Washington, DC 20210, telephone: (202) 693-5445.

SUPPLEMENTARY INFORMATION: The direct final rule, which applies to general industry, removes a number of references to national consensus standards that have requirements that duplicate, or are comparable to, other OSHA rules; this action includes correcting a paragraph citation in one of these OSHA rules. The direct final rule also removes a reference to American Welding Society standard A3.0-1969 (“Terms and Definitions”).

On December 14, 2007, OSHA published the direct final rule in the Federal Register with a statement that the rule would become effective on March 13, 2008 unless the Agency received a significant adverse comment by January 14, 2008 (72 FR 71061). OSHA published simultaneously with the direct final rule a companion proposed rule (72 FR 71091). In both the direct final rule and the proposed rule, OSHA requested comment on any issues related to this action.

OSHA received six comments on the direct final rule; none of these comments was significantly adverse. Some commenters suggested that OSHA, instead of removing the duplicative and outdated references, update the references to the latest versions of the consensus standards. While OSHA will consider updating its rules to incorporate more recent versions of the consensus standards in the future, updating the references is outside the scope of this rulemaking. In addition, some commenters mistakenly believed that removing the duplicative references would diminish employee protection. As explained in the December 14, 2007 Federal Register notice, OSHA is removing references that essentially duplicate requirements found elsewhere in OSHA's standards. For this reason, employee protection will not be diminished by the direct final rule. Therefore, the direct final rule will become effective on March 13, 2008.

Authority and Signature

Edwin G. Foulke, Jr., Assistant Secretary of Labor for Occupational Safety and Health, U.S. Department of Labor, 200 Constitution Avenue, NW., Washington, DC 20210, directed the preparation of this document. OSHA is issuing this document pursuant to Sections 4, 6, and 8 of the Occupational Safety and Health Act of 1970 (29 U.S.C. 653, 655, 657), Secretary of Labor's Order 5-2007 (72 FR 31160); and 29 CFR part 1911.

Signed at Washington, DC on March 11, 2008.
Edwin G. Foulke, Jr.
Assistant Secretary of Labor for Occupational Safety and Health.

[FR Doc. E8-5120 Filed 3-13-08; 8:45 am]

BILLING CODE 4510-26-P